ENVIRONMENTAL PROTECTION AGENCY

40 CFR Parts 281 and 282

[EPA-R09-UST-2021-0597; FRL-8977-01-R9]

Approval of State Underground Storage Tank Program Revisions; Nevada

AGENCY: Environmental Protection Agency (EPA).

ACTION: Proposed action.

SUMMARY: Pursuant to the Resource Conservation and Recovery Act, as amended, the Environmental Protection Agency (EPA) proposes to take direct final action to approve revisions to the State of Nevada's Underground Storage Tank (UST) program since the previous authorization on July 17, 1998. This action is based on the EPA's determination that these revisions satisfy all requirements needed for program approval. In the “Rules and Regulations” section of this Federal Register, the EPA is approving the changes by direct final authorization because we believe this action is not controversial and do not expect comments that oppose it.

DATES: Send written comments by November 1, 2021.

ADDRESSES: Submit any comments, identified by EPA-R09-UST-2021-0597, by one of the following methods:

1. Federal eRulemaking Portal: https://www.regulations.gov. Follow the on-line instructions for submitting comments.

2. Email: platukyte.simona@epa.gov.

Instructions: Direct your comments to Docket ID No. EPA-R09-UST-2021-0597. The EPA's policy is that all comments received will be included in the public docket without change and may be available online at https://www.regulations.gov, including any personal information provided, unless the comment includes information claimed to be Confidential Business Information (CBI) or other information whose disclosure is restricted by statute. Do not submit information that you consider to be CBI or otherwise protected through https://www.regulations.gov, or email. The Federal https://www.regulations.gov website is an “anonymous access” system, which means the EPA will not know your identity or contact information unless you provide it in the body of your comment. If you send an email comment directly to the EPA without going through https://www.regulations.gov, your email address will be automatically captured and included as part of the comment that is placed in the public docket and made available on the internet. If you submit an electronic comment, the EPA recommends that you include your name and other contact information in the body of your comment and with any disk or CD-ROM you submit. If the EPA cannot read your comment due to technical difficulties, and cannot contact you for clarification, the EPA may not be able to consider your comment. Electronic files should avoid the use of special characters, any form of encryption, and be free of any defects or viruses.

The EPA encourages electronic submittals, but if you are unable to submit electronically, please reach out to the EPA contact person listed in the notice for assistance with additional submission methods.

You can view and copy the documents that form the basis for this action and associated publicly available materials through www.regulations.gov.

FOR FURTHER INFORMATION CONTACT: Simona Platukyte, Project Officer, Underground Storage Tank Program, EPA Region 9, phone number: (415) 972-3310, email address: platukyte.simona@epa.gov. Out of an abundance of caution for members of the public and our staff, the EPA Region 9 office will be closed to the public to reduce the risk of transmitting COVID-19. We encourage the public to submit comments via https://www.regulations.gov, as no mail, courier, or hand deliveries will be accepted. Please call or email the contact listed above if you need alternative access to material indexed but not provided in the docket.

SUPPLEMENTARY INFORMATION: In the “Rules and Regulations” section of this Federal Register, the EPA is approving the State's UST program submittal as a direct authorization without prior proposal because the Agency views this as a noncontroversial submittal and anticipates no adverse comments. A detailed rationale for the approval is set forth in the direct final authorization. If no relevant adverse comments are received in response to this action, no further activity is contemplated. If the EPA receives relevant adverse comments, the direct final authorization will be withdrawn, and all public comments received will be addressed in a subsequent final authorization based on this proposed authorization. The EPA will not institute a second comment period. Any parties interested in commenting on this action should do so at this time. For additional information, see the direct final authorization published in the “Rules and Regulations” section of this Federal Register.

Authority: This proposed authorization is issued under the authority of sections 2002(a), 9004, and 7004(b) of the Solid Waste Disposal Act, as amended, 42 U.S.C. 6912, 6991c, 6991d, and 6991e.

Dated: September 19, 2021.
Deborah Jordan,
Acting Regional Administrator, EPA Region 9.

[FR Doc. 2021-20860 Filed 9-29-21; 8:45 am]

BILLING CODE 6560-50-P